POSTAL SERVICE

39 CFR Part 111

Hardcopy Postage Statements Discontinued

AGENCY: Postal Service™.

ACTION: Final rule.

SUMMARY: The Postal Service is amending Mailing Standards of the United States Postal Service, Domestic Mail Manual (DMM®) in various sections to discontinue the use of hardcopy postage statements for domestic commercial mailings.

DATES: Effective: January 28, 2024.

FOR FURTHER INFORMATION CONTACT: Michael Filipski at (312) 765-3089 or Garry Rodriguez at (202) 268-7281.

SUPPLEMENTARY INFORMATION: On February 13, 2023, the Postal Service published a notice of proposed rulemaking (88 FR 9218-9221) to discontinue the use of hardcopy postage statements for domestic commercial mailings. In response to the proposed rule, the Postal Service received 16 comments as follows:

Comment: Multiple comments stated eliminating hardcopy postage statements would make it so we cannot submit bulk mailings any longer.

Response: The Federal Register Notice proposed rule provided that Postal Wizard® and the Intelligent Mail® Small Business Tool (IMsb) are free and simple electronic documentation solutions available to all customers through the Business Customer Gateway, and that third-party software and mail preparation options are also available on the PostalPro website. In addition, all business mail entry unit (BMEU) employees are trained to assist customers with this transition.

Comment: The USPS should improve communications to the field, specifically requiring local postmasters where Periodical mail is entered to hold in-person meetings with mailers no later than 180 days before any implementation date of this proposal.

Response: Postal Service BMEU employees and managers began reaching out to customers and meeting with them well over a year before the date where we intend to no longer accept hardcopy postage statements. These efforts include weekly informational sessions on using the Intelligent Mail for Small Business Tool and Postal Wizard as well as targeted outreach to individual customers ensuring they know how to use the free electronic documentation options and which third part solutions are available. Internal information sessions and material is continually provided to all BMEU staff and postmasters to ensure they are aware of the changes and can decipher this information to our customers.

Comment: I do not have a computer and cannot submit my postage statement electronically.

Response: BMEUs where you currently bring your hardcopy statement will assist you with submitting a statement electronically.

Comment: Eliminating hardcopy postage statements will create an issue for mailers who mail non-identical pieces and must submit a hardcopy manifest.

Response: Postal Wizard, which is free electronic documentation software available on the Business Customer Gateway, allows for non-identical pieces as do many third-party options listed on PostalPro. The hardcopy manifest that must be accompanied with such a mailing will still be accepted; this FRN only covers postage statements themselves and does not prohibit hardcopy manifests.

Comment: The transition period should be continued through 2025.

Response: The Postal Service has ensured the local BMEUs have encouraged mailers to transition to electronic documentation for several years and official notice was provided 11 months prior to this transition. Given this and that there are various free and easy options to submit electronic documentation, the Postal Service believes January 2024 is sufficient time for hardcopy mailers to transfer.

Comment: The USPS should rapidly enhance the available of service data for newspaper mail. Better visibility.

Response: This comment is beyond the scope of this FRN. However, the Postal Service is exploring visibility enhancements for all our products.

The Postal Service is discontinuing the use of hardcopy postage statements to improve efficiency by expediting the acceptance of commercial mail. Except for Electronic Verification System (eVS®) mailings, all domestic commercial mailings must use an approved electronic method to transmit a postage statement to the PostalOne! ® system.

The Postal Service provides free means of electronic postage statement submission through the Intelligent Mail for Small Business (IMsb) tool and Postal Wizard. There are also approved third party software options available on PostalPro at postalpro.usps.com.

The use of hardcopy postage statements for Every Door Direct Mail—Retail® (EDDM-R®) and international mailings will not be affected by this revision.

We believe this revision will provide customers with a more efficient mailing experience.

The Postal Service adopts the following changes to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Flats, and Parcels

* * * * *

203 Basic Postage Statement, Documentation, and Preparation Standards

1.0 Postage Statements

1.1 Completing Postage Statements

[Revise the first sentence of 1.1 to read as follows:]

Unless manifested using eVS under 705.2.9, any domestic mailing claiming a discount and all permit imprint mailings must be accompanied by a completed electronic postage statement (NOTE: Except for Every Door Direct Mail—Retail, all commercial references to “postage statements” in the DMM are electronic.). * * *

* * * * *

[Delete 1.3, Facsimile Postage Statements, in its entirety.]

* * * * *

3.0 Standardized Documentation for First-Class Mail, Periodicals, USPS Marketing Mail, and Flat-Size Bound Printed Matter

* * * * *

3.2 Format and Content

For First-Class Mail, Periodicals, USPS Marketing Mail, and Bound Printed Matter, standardized documentation includes:

* * * * *

e. * * * For Periodicals mailings, documentation also must provide:

* * * * *

[Delete the last sentence of item e4.]

* * * * *

230 Commercial Mail First-Class Mail

* * * * *

234 Postage Payment and Documentation

* * * * *

2.0 Affixing Postage to Presorted and Automation Letters and Flats

2.1 Affixing Postage for Presorted and Automation First-Class Mail

Except as permitted under 2.2 or authorized by the director, Business Acceptance Solutions, each piece must bear the numerical value of postage under one of these conditions:

* * * * *

[Revise the last sentence of item b to read as follows:]

b. * * * Additional postage must be paid at the time of mailing with an advance deposit account.

2.2 Affixing Postage at Less Than Full Price to All Pieces

* * * * *

2.2.1 Lowest Price

A mailer may affix postage evidencing postage at the lowest price as follows:

* * * * *

[Revise the last sentence of item b to read as follows:]

b. Additional postage: * * * The total additional postage must be paid by advance deposit account.

* * * * *

2.2.2 Mixed Price Alternative

[Revise the last sentence of 2.2.2 to read as follows:]

* * * The total additional postage must be paid by advance deposit account.

* * * * *

240 Commercial Mail USPS Marketing Mail

243 Prices and Eligibility

* * * * *

3.3 Additional Basic Standards for USPS Marketing Mail

Each USPS Marketing Mail mailing is subject to these general standards:

* * * * *

[Revise the first sentence of item h to read as follows:]

h. A completed postage statement using the correct USPS form must be submitted with each mailing. * * *

* * * * *

244 Postage Payment and Documentation

* * * * *

2.0 Additional Postage Payment Standards

2.1 Identical-Weight Pieces

[Revise the third sentence in 2.1 to read as follows:]

* * * If exact postage is not affixed, all additional postage and surcharges must be paid at the time of mailing with an advance deposit account. * * *

* * * * *

3.0 Affixing Postage at Less Than Full Price

* * * * *

3.2 Lowest Price

A mailer may affix metered postage at the lowest price on identical-weight pieces as follows:

* * * * *

[Revise the last sentence of item c to read as follows:]

c. Additional postage: * * * The total additional postage must be paid by advance deposit account.

* * * * *

3.3 Mixed Price Alternative for Letters and Flats

[Revise the last sentence of 3.3 to read as follows:]

* * * The total additional postage must be paid by advance deposit account.

* * * * *

245 Mail Preparation

* * * * *

6.0 Preparing Enhanced Carrier Route Letters

* * * * *

6.9 Delivery Sequence Documentation

6.9.1 Basic Standards

[Revise the third sentence of the introductory text of 6.9.1 to read as follows:]

* * * The mailer's electronic confirmation during eDoc submission certifies that this standard has been met when the corresponding mail is presented to the USPS. * * *

* * * * *

9.0 Preparing Enhanced Carrier Route Flats

* * * * *

9.10 Delivery Sequence Documentation

9.10.1 Basic Standards

[Revise the third sentence of the introductory text of 9.10.1 to read as follows:]

* * * The mailer's electronic confirmation during eDoc submission certifies that this standard has been met when the corresponding mail is presented to the USPS. * * *

* * * * *

12.0 Preparing Enhanced Carrier Route Product Sample Parcels

* * * * *

12.7 Delivery Sequence Documentation

12.7.1 General Standards

[Revise the third sentence of the introductory text of 12.7.1 to read as follows:]

* * * The mailer's electronic confirmation during eDoc submission certifies that this standard has been met when the corresponding mail is presented to the

USPS. * * *

* * * * *

250 Commercial Mail Parcel Select

* * * * *

254 Postage Payment and Documentation

* * * * *

2.0 Mailing Documentation

2.1 Completing Postage Statements

[Revise the first sentence of 2.1 to read as follows:]

All metered and permit imprint mailings of 50 pieces or more, except manifested mail using eVS under 705.2.9, must be accompanied by a completed postage statement. * * *

* * * * *

602 Addressing

* * * * *

5.0 Move Update Standards

* * * * *

5.4 Mailer Certification

[Revise the text of 5.4 to read as follows:]

The mailer's electronic confirmation during eDoc submission certifies that the Move Update standard has been met for the address records, including each address in the corresponding mailing presented to the Postal Service.

* * * * *

6.0 ZIP Code Accuracy Standards

* * * * *

6.3 Mailer Certification

[Revise the text of 6.3 to read as follows:]

The mailer`s electronic confirmation during eDoc submission certifies that the ZIP Code accuracy standard has been met for each address in the corresponding mailing presented to the USPS.

* * * * *

7.0 Carrier Route Accuracy Standard

* * * * *

7.4 Mailer Certification

[Revise the text of 7.4 to read as follows:]

The mailer's electronic confirmation during eDoc submission certifies that the carrier route accuracy standard has been met for each address in the corresponding mailing presented to the USPS.

* * * * *

8.0 Presort Accuracy Validation and Evaluation (PAVE)

8.1 Presort Accuracy Validation and Evaluation (PAVE)

* * * * *

8.1.2 Process

[Revise the second and third sentence of 8.1.2 to read as follows:]

* * * Vendors process the test file(s) through their presort software or hardware and return the resulting presort documentation to the USPS National Customer Support Center (NCSC) for evaluation of the answers. Each test file is evaluated for its accuracy of presort, compliance with current DMM standards, accuracy of sack/tray/pallet tag labels, and general acceptability of presort documentation. * * *

* * * * *

9.0 Coding Accuracy Support System (CASS)

* * * * *

9.3 Date of Address Matching and Coding

9.3.1 Update Standards

[Revise the seventh sentence in the introductory text of 9.3.1 to read as follows:]

* * * The mailer's electronic confirmation during eDoc submission certifies that this standard has been met when the corresponding mail is presented to the USPS. * * *

* * * * *

9.5 Documentation

9.5.1 Form 3553

[Revise the last sentence of 9.5.1 to read as follows:]

* * * The mailer certifies compliance with electronic confirmation during eDoc submission.

* * * * *

604 Postage Payment Methods and Refunds

* * * * *

3.0 Precanceled Stamps

3.1 General Information

* * * * *

3.1.8 Return Address

* * * Mailpieces bearing precanceled stamps and any return addresses outside the Post Office of mailing must meet one of the following standards:

* * * * *

[Revise item a to read as follows:]

a. At the time of mailing, the mailer must submit a copy of the postage statement and a sample mailpiece, enclosed in a stamped envelope and addressed to the postmaster at the Post Office of the return address.

* * * * *

607 Mailer Compliance and Appeals of Classification Decisions

1.0 Mailer Compliance With Mailing Standards

1.1 Mailer Responsibility

[Revise the third sentence of 1.1 to read as follows:]

* * * For mailings that require a postage statement, the mailer certifies compliance with all applicable postal standards with electronic confirmation during eDoc submission. * * *

1.2 Postage Payment

[Revise the last sentence of 1.2 to read as follows:]

* * * A USPS employee's acceptance of the postage statement and the subsequent acceptance of the mailing does not constitute verified accuracy of that statement and does not limit the ability of the USPS to demand proper payment after acceptance when it becomes apparent such payment was not made.

* * * * *

700 Special Standards

* * * * *

705 Advanced Preparation and Special Postage Payment Systems

* * * * *

2.0 Manifest Mailing System

* * * * *

2.2 Basic Standards

* * * * *

2.2.7 Postage Statement

[Revise the text of 2.2.7 by deleting the last two sentences.]

* * * * *

9.0 Combining Bundles of Automation and Nonautomation Flats in Trays and Sacks

9.1 First-Class Mail

9.1.1 Basic Standards

Bundles of flats in an automation price mailing prepared under 235.6.5 must be cotrayed with bundles of flats in a Presorted price mailing under the following conditions:

* * * * *

[Revise the first sentence of item h to read as follows:]

h. A complete postage statement, using the correct USPS form, must accompany each mailing job prepared under these procedures. * * *

* * * * *

9.3 USPS Marketing Mail

9.3.1 Basic Standards

Bundles of flats in an automation price mailing must be cosacked with bundles of flats in a Presorted price mailing under the following conditions:

* * * * *

[Revise the first sentence of item h to read as follows:]

h. A complete postage statement(s), using the correct USPS form, must accompany each mailing job prepared under these procedures. * * *

* * * * *

9.4 Bound Printed Matter

9.4.1 Basic Standards

Bundles of flat-size pieces in a Presorted price mailing qualifying for and claiming the barcode discount under 263.3.0, 263.2.0, and 263.5.0 must be cosacked with bundles of flat-size pieces from a Presorted price mailing (not claiming the barcode discount) under the following conditions:

* * * * *

[Revise the first sentence of item h to read as follows:]

h. A complete postage statement(s), using the correct USPS form, must accompany each mailing job prepared under these procedures. * * *

* * * * *

10.0 Merging Bundles of Flats Using the City State Product

10.1 Periodicals

10.1.1 Basic Standards

* * * Carrier route bundles in a carrier route mailing may be placed in the same sack or on the same pallet as 5-digit bundles from machinable (barcoded or nonbarcoded) price mailings (including pieces cobundled under 11.0) under the following conditions:

* * * * *

[Revise the first sentence of item i to read as follows:]

i. A complete postage statement(s), using the correct USPS form, must accompany each mailing job prepared under these procedures. * * *

* * * * *

10.2 USPS Marketing Mail

10.2.1 Basic Standards

Carrier route bundles from a carrier route price mailing may be placed in the same sack or on the same pallet as 5-digit bundles from an automation price mailing and 5-digit bundles from a Presorted price mailing (including pieces cobundled under 11.0) under the following conditions:

* * * * *

[Revise the text of item k to read as follows:]

k. A complete postage statement, using the correct USPS form, must accompany each mailing job prepared under these procedures.

* * * * *

12.0 Merging Bundles of Flats on Pallets Using a 5% Threshold

12.1 Periodicals

12.1.1 Basic Standards

* * * Five-digit bundles from a barcoded price mailing and 5-digit bundles from a nonbarcoded price mailing (including pieces cobundled under 11.0) may be placed on the same pallet as carrier route bundles under the following conditions:

* * * * *

[Revise the first sentence in the introductory text of item f to read as follows:]

f. A complete postage statement, using the correct USPS form, must accompany each mailing job. * * *

* * * * *

12.2 USPS Marketing Mail

12.2.1 Basic Standards

* * * Five-digit bundles from an automation price mailing and 5-digit bundles from a Presorted price mailing (including pieces cobundled under 11.0) may be placed on the same pallet as carrier route bundles under the following conditions:

* * * * *

[Revise the text of item j to read as follows:]

j. A complete postage statement, using the correct USPS form, must be submitted for each mailing job prepared under these procedures.

* * * * *

13.0 Merging Bundles of Flats on Pallets Using the City State Product and a 5% Threshold

13.1 Periodicals

13.1.1 Basic Standards

* * * Five-digit bundles from a barcoded price mailing and 5-digit bundles from a nonbarcoded price mailing (including pieces cobundled under 11.0) may be placed on the same pallet as carrier route bundles under the following conditions:

* * * * *

[Revise the first sentence in the introductory text of item g to read as follows:]

g. A complete postage statement, using the correct USPS form, must be submitted for each mailing job. * * *

* * * * *

13.2 USPS Marketing Mail

13.2.1 Basic Standards

* * * Five-digit bundles from an automation price mailing and 5-digit bundles from a Presorted price mailing (including pieces cobundled under 11.0) may be placed on the same pallet as carrier route bundles under the following conditions:

* * * * *

[Revise the text of item k to read as follows:]

k. A complete postage statement, using the correct USPS form, must be submitted for each mailing job prepared under these procedures.

* * * * *

17.0 Plant-Verified Drop Shipment

* * * * *

17.2 Program Participation

* * * * *

17.2.3 Verification at Origin BMEU

PVDS verification can be performed at the origin business mail entry unit (BMEU) under these conditions:

* * * * *

[Revise the text of item d to read as follows:]

d. Form 8125 accompanies each PVDS (or segment, if the PVDS is contained in more than one vehicle).

* * * * *

Tram T. Pham,
Attorney, Ethics and Legal Compliance.

[FR Doc. 2023-08620 Filed 4-24-23; 8:45 am]

BILLING CODE P